DEPARTMENT OF COMMERCE

International Trade Administration

[A-570-970]

Multilayered Wood Flooring From the People's Republic of China: Initiation of Antidumping Duty New Shipper Reviews; 2012-2013

AGENCY: Import Administration, International Trade Administration, Department of Commerce.

SUMMARY: The Department of Commerce (“Department”) has determined that three requests for new shipper reviews of the antidumping duty order on multilayered wood flooring from the People's Republic of China (“PRC”) meet the statutory and regulatory requirements for initiation. The period of review (“POR”) for two of these new shipper reviews is December 1, 2012, through May 31, 2013. The POR for the other new shipper review is December 1, 2012, through June 30, 2013.

DATES: Effective Date: July 31, 2013.

FOR FURTHER INFORMATION CONTACT: Brandon Farlander or Karine Gziryan, AD/CVD Operations, Office 4, Import Administration, International Trade Administration, U.S. Department of Commerce, 14th Street and Constitution Avenue NW., Washington, DC 20230; telephone: 202-482-0182 or 202-482-4081, respectively.

SUPPLEMENTARY INFORMATION:

Background

The Department published the antidumping duty order on multilayered wood flooring from the PRC on December 8, 2011.¹ On June 28, 2013, the Department received timely new shipper review requests from Dalian Huade Wood Product Co., Ltd (“Huade”), Linyi Bonn Flooring Manufacturing Co., Ltd. (“Bonn Flooring”) and Zhejiang Fuerjia Wooden Co., Ltd. (“Fuerjia”) in accordance with section 751(a)(2)(B)(i) of the Tariff Act of 1930, as amended (“the Act”), and 19 CFR 351.214(c).²

¹ See Multilayered Wood Flooring from the People's Republic of China: Amended Final Determination of Sales at Less Than Fair Value and Antidumping Duty Order, 76 FR 76690 (December 8, 2011) (“Order”).

² See Huade's June 28, 2013, initiation request submission to the Department (“Huade initiation request”), Bonn Flooring's June 28, 2013, initiation request submission to the Department (“Bonn Flooring initiation request”), and Fuerjia's June 28, 2013, initiation request submission to the Department (“Fuerjia initiation request”).

In their submissions, Huade, Bonn Flooring and Fuerjia certified that they are the exporters of the subject merchandise upon which their respective review requests were based.³ Pursuant to section 751(a)(2)(B)(i)(I) of the Act and 19 CFR 351.214(b)(2)(i), Huade, Bonn Flooring and Fuerjia certified that they did not export multilayered wood flooring to the United States during the period of investigation (“POI”).⁴ In addition, pursuant to section 751(a)(2)(B)(i)(II) of the Act and 19 CFR 351.214(b)(2)(iii)(A), Huade, Bonn Flooring and Fuerjia certified that, since the initiation of the investigation, they have never been affiliated with any producer or exporter that exported multilayered wood flooring to the United States during the POI, including those not individually examined during the investigation.⁵ As required by 19 CFR 351.214(b)(2)(iii)(B), Huade, Bonn Flooring and Fuerjia also certified that their export activities were not controlled by the central government of the PRC.⁶

³ See Huade initiation request, at Exhibit 1; see also Bonn Flooring initiation request, at Exhibit 2; see also Fuerjia initiation request, at Exhibit 1. Huade, Bonn Flooring and Fuerjia further stated that they were also the producers of the subject merchandise upon which the review requests were based.

⁴ See id.

⁵ See id.

⁶ See id.

In addition to the certifications described above, pursuant to 19 CFR 351.214(b)(2)(iv), Huade, Bonn Flooring and Fuerjia submitted documentation establishing the following: (1) The date on which each company first shipped multilayered wood flooring for export to the United States and the date on which the multilayered wood flooring was first entered, or withdrawn from warehouse, for consumption; (2) the volume of its first shipment; and (3) the date of its first sale to an unaffiliated customer in the United States.⁷

⁷ See Huade initiation request, at 2 and Exhibits 2 and 4; see also Bonn Flooring initiation request, at 2 and Exhibit 1; see also Fuerjia initiation request, at 3 and Exhibits 2 and 4.

The Department conducted U.S. Customs and Border Protection (“CBP”) database queries and confirmed that Huade, Bonn Flooring and Fuerjia's shipments of subject merchandise had entered the United States for consumption and that liquidation of such entries had been properly suspended for antidumping duties. The Department also confirmed by examining CBP data that Bonn Flooring and Fuerjia's entries were made during the POR specified by the Department's regulations and that Huade's entry was made after the POR.⁸

⁸ See July 17, 2013, memoranda to the file, regarding “U.S. Customs and Border Protection Data” for Huade, Bonn Flooring and Fuerjia; see also Memorandum to the File entitled, “Initiation of Antidumping New Shipper Review of Multilayered Wood Flooring from the People's Republic of China: Dalian Huade Wood Product Co., Ltd.” (“Huade Initiation Checklist”) dated concurrently with this notice; Memorandum to the File entitled, “Initiation of Antidumping New Shipper Review of Multilayered Wood Flooring from the People's Republic of China: Linyi Bonn Flooring Manufacturing Co., Ltd.” (“Bonn Initiation Checklist”) dated concurrently with this notice; Memorandum to the File entitled, “Initiation of Antidumping New Shipper Review of Multilayered Wood Flooring from the People's Republic of China: Zhejiang Fuerjia Wooden Co., Ltd.” (“Fuerjia Initiation Checklist”) dated concurrently with this notice.

Period of Review

Pursuant to 19 CFR 351.214(c), an exporter or producer may request a new shipper review within one year of the date on which its subject merchandise was first entered. Moreover, 19 CFR 351.214(d)(1) states that if the request for the review is made during the six-month period ending with the end of the semiannual anniversary month, the Secretary will initiate a new shipper review in the calendar month immediately following the semiannual anniversary month. Further, 19 CFR 315.214(g)(1)(i)(B) states that if the new shipper review was initiated in the month immediately following the semiannual anniversary month, the POR will be the six-month period immediately preceding the semiannual anniversary month. Within one year of the dates on which their multilayered wood flooring was first entered, Bonn Flooring and Fuerija made the requests for new shipper reviews in June, which is the semiannual anniversary month of the Order. Therefore, the Secretary must initiate these reviews in July and the POR is December 1, 2012, through May 31, 2013.

In this instance, Huade's sale of subject merchandise was made during the POR specified by the Department's regulations, but the shipment entered within thirty days after the end of that POR. When the sale of the subject merchandise occurs within the POR specified by the Department's regulations, but the entry occurs after the POR, the specified POR may be extended unless it would be likely to prevent the completion of the review within the time limits set by the Department's regulations.⁹ Additionally, the preamble to the Department's regulations states that both the entry and the sale should occur during the POR, and that under “appropriate” circumstances the Department has the flexibility to extend the POR.¹⁰ The Department finds that extending the POR to capture this entry would not prevent the completion of the review within the time limits set by the Department's regulations. Therefore, the Department has extended the POR for the new shipper review of Huade by thirty days.

⁹ See 19 CFR 351.214(f)(2)(ii).

¹⁰ See Antidumping Duties; Countervailing Duties; Final Rule, 62 FR 27296, 27319-27320 (May 19, 1997).

Initiation of New Shipper Review

Pursuant to section 751(a)(2)(B) of the Act and 19 CFR 351.214(b), and the information on the record, the Department finds that the requests submitted by Huade, Bonn Flooring and Fuerjia meet the threshold requirements for initiation of new shipper reviews for the shipments of multilayered wood flooring from the PRC produced and exported by these companies.¹¹ However, if the information supplied by Huade, Bonn Flooring or Fuerjia is later found to be incorrect or insufficient during the course of this proceeding, the Department may rescind the review or apply adverse facts available pursuant to section 776 of the Act, depending upon the facts on record. The Department intends to issue the preliminary results of these new shipper reviews no later than 180 days from the date of initiation, and the final results no later than 90 days from the issuance of the preliminary results.¹²

¹¹ See Huade Initiation Checklist; see also Bonn Initiation Checklist; see also Fuerjia Initiation Checklist.

¹² See section 751(a)(2)(B)(iv) of the Act.

It is the Department's usual practice, in cases involving non-market economies, to require that a company seeking to establish eligibility for an antidumping duty rate separate from the country-wide rate provide evidence of de jure and de facto absence of government control over the company's export activities. Accordingly, the Department will issue questionnaires to Huade, Bonn Flooring and Fuerjia, which will include a section requesting information with regard to these companies' export activities for separate rates purposes. The review of each exporter will proceed if the response provides sufficient indication that it is not subject to either de jure or de facto government control with respect to its export of subject merchandise.

The Department will instruct CBP to allow, until the completion of the review, at the option of the importer, the posting of a bond or security in lieu of a cash deposit for each entry of the subject merchandise from Huade, Bonn Flooring and Fuerjia, in accordance with section 751(a)(2)(B)(iii) of the Act and 19 CFR 351.214(e). Because Huade, Bonn Flooring and Fuerjia certified that they produced and exported the subject merchandise, the Department will apply the bonding privilege only for subject merchandise that the respondent both produced and exported.

Interested parties requiring access to proprietary information in these new shipper reviews should submit applications for disclosure under administrative protective order in accordance with 19 CFR 351.305 and 19 CFR 351.306.

Revised Factual Information Requirements

On April 10, 2013, the Department published Definition of Factual Information and Time Limits for Submission of Factual Information: Final Rule, 78 FR 21246 (April 10, 2013), which modified two regulations related to antidumping and countervailing duty proceedings: the definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://ia.ita.doc.gov/frn/2013/1304frn/2013-08227.txt, prior to submitting factual information in this segment.

Any party submitting factual information in an antidumping duty or countervailing duty proceeding must certify to the accuracy and completeness of that information.¹³ Parties are hereby reminded that revised certification requirements are in effect for company/government officials as well as their representatives in all segments of any antidumping duty or countervailing duty proceedings initiated on or after March 14, 2011.¹⁴ The formats for the revised certifications are provided at the end of the Interim Final Rule. The Department intends to reject factual submissions in any proceeding segments initiated on or after March 14, 2011, if the submitting party does not comply with the revised certification requirements.

¹³ See section 782(b) of the Act.

¹⁴ See Certification of Factual Information to Import Administration During Antidumping and Countervailing Duty Proceedings: Interim Final Rule, 76 FR 7491 (February 10, 2011) (“Interim Final Rule”), amending 19 CFR 351.303(g)(1) and (2).

This initiation and notice are in accordance with section 751(a)(2)(B) of the Act and 19 CFR 351.214 and 19 CFR 351.221(c)(1)(i).

Dated: July 25, 2013.
Christian Marsh,
Deputy Assistant Secretary for Antidumping and Countervailing Duty Operations.

[FR Doc. 2013-18426 Filed 7-30-13; 8:45 am]

BILLING CODE 3510-DS-P